FEDERAL MARITIME COMMISSION

[Docket No. 08-0]

Petition of Olympus Growth Fund III, L.P. and Olympus Executive Fund, L.P. for Declaratory Order, Rulemaking or Other Relief; Erratum

In the Notice of Filing of Petition for Docket 08-07, served December 23, 2008 and appearing in the Federal Register on January 5, 2009 (74 FR 288), the citation in paragraph 3 is corrected to read “See 46 CFR 502.68(f)(2).”

Karen V. Gregory,
Secretary.

[FR Doc. E9-3966 Filed 2-24-09; 8:45 am]

BILLING CODE 6730-01-P